FEDERAL RESERVE SYSTEM

[FR 2320; OMB No. 7100-0345]

Agency Information Collection Activities: Announcement of Board Approval Under Delegated Authority and Submission to OMB

AGENCY: Board of Governors of the Federal Reserve System.

SUMMARY: The Board of Governors of the Federal Reserve System (Board) is adopting a proposal to extend for three years, without revision, the Quarterly Savings and Loan Holding Company Report.

FOR FURTHER INFORMATION CONTACT: Federal Reserve Board Clearance Officer—Nuha Elmaghrabi—Office of the Chief Data Officer, Board of Governors of the Federal Reserve System, Washington, DC 20551, (202) 452-3829.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements, and approved collection of information instrument(s) are available at https://www.reginfo.gov/public/do/PRAMain. These documents are also available on the Federal Reserve Board's public website at https://www.federalreserve.gov/apps/reportforms/review.aspx or may be requested from the agency clearance officer, whose name appears above.

Final Approval Under OMB Delegated Authority of the Extension for Three Years, Without Revision, of the Following Information Collection

Report title: Quarterly Savings and Loan Holding Company Report.

Agency form number: FR 2320.

OMB control number: 7100-0345.

Frequency: Quarterly.

Respondents: Savings and loan holding companies (SLHCs).

Estimated number of respondents: 5.

Estimated average hours per response: 2.5.

Estimated annual burden hours: 50.

General description of report: The FR 2320 collects select parent only and consolidated balance sheet and income statement financial data and organizational structure data from SLHCs exempt from filing other Federal Reserve regulatory reports. Specifically, the FR 2320 collects data on the assets, liabilities, equity, and income of the organization. In addition, the FR 2320 collects information about and changes to the organization's subsidiaries, management, capital structure, and operations.

Legal authorization and confidentiality: The FR 2320 is authorized by section 10(b)(2) of the Home Owners' Loan Act (HOLA), which states that “each [SLHC] and each subsidiary thereof, other than a savings association, shall file with the Board, such reports as may be required by the Board.” ¹ Section 10(b)(2) of HOLA also states that “each report shall contain such information concerning the operations of such savings and loan holding company and its subsidiaries as the Board may require.” ²

¹ 12 U.S.C. 1467a(b)(2).

² Id.

The FR 2320 is mandatory. Generally, in the case of tiered SLHCs that are exempt SLHCs, only the top-tier SLHC must file the FR 2320 for the consolidated SLHC organization. However, in certain cases, a lower-tier SLHC may be required to file the FR 2320 instead of the top-tier SLHC if it is determined by the district Federal Reserve Bank that the lower-tier SLHC more closely reflects the risk profile, assets, and liabilities of the subsidiary savings association(s). In addition, lower-tier SLHCs may voluntarily file the FR 2320 or may be required to file in addition to the top-tier SLHC if it is determined that such a filing is necessary to accurately assess the impact that the activities or financial condition of the lower-tier SLHC has on its subsidiary savings association(s).

The information collected in response to line items 24, 25, and 26 is expected to be nonpublic commercial or financial information, which is both customarily and actually treated as private by the respondent, and thus may be kept confidential by the Board pursuant to exemption 4 of the Freedom of Information Act (FOIA).³ Although the remainder of the FR 2320 is generally made available to the public upon request, a reporting SLHC may request confidential treatment for responses to other items pursuant to exemption 4 of the FOIA if those responses contain nonpublic commercial or financial information, which is both customarily and actually treated as private by the respondent.⁴

³ 5 U.S.C. 552(b)(4).

⁴ Id.

Current actions: On November 23, 2022, the Board published a notice in the Federal Register (86 FR 66554) requesting public comment for 60 days on the extension, without revision, of the FR 2320. The comment period for this notice expired on January 24, 2022. The Board did not receive any comments.

Board of Governors of the Federal Reserve System, February 24, 2022.
Michele Taylor Fennell,
Deputy Associate Secretary of the Board.

[FR Doc. 2022-04346 Filed 3-1-22; 8:45 am]

BILLING CODE 6210-01-P